ENVIRONMENTAL PROTECTION AGENCY

[EPA-HQ-OAR-2020-0415; FRL-10023-32-OMS]

Information Collection Request Submitted to OMB for Review and Approval; Comment Request; Implementation of the 8-Hour National Ambient Air Quality Standards for Ozone (Renewal)

AGENCY: Environmental Protection Agency (EPA).

ACTION: Notice.

SUMMARY: The Environmental Protection Agency (EPA) has submitted an information collection request (ICR), Implementation of the 8-hour National Ambient Air Quality Standards for Ozone: State Implementation Plan Requirements (EPA ICR Number 2347.04, OMB Control No. 2060-0695), to the Office of Management and Budget (OMB) for review and approval in accordance with the Paperwork Reduction Act. This renewal provides updated burden estimates for the 2021-2024 time period for implementing the 2008 ozone National Ambient Air Quality Standards (NAAQS), and it provides new burden estimates for the information collection resulting from implementation of the 2015 ozone NAAQS. It also provides new burden estimates for the information collection resulting from ongoing implementation of the revoked 1997 ozone NAAQS. Public comments were previously requested via the Federal Register on December 8, 2020, during a 60-day comment period. This notice allows for an additional 30 days for public comments. A fuller description of the ICR is given below, including its estimated burden and cost to the public. An Agency may not conduct or sponsor, and a person is not required to respond to, a collection of information unless it displays a currently valid OMB control number.

DATES: Additional comments may be submitted on or before June 1, 2021.

ADDRESSES: Submit your comments to EPA, referencing Docket ID No. EPA-HQ-OAR-2020-0415, online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Mr. C.W. Stackhouse, Office of Air Quality Planning and Standards, U.S. Environmental Protection Agency, by phone at (919) 541-5208 or by email at stackhouse.butch@epa.gov.

SUPPLEMENTARY INFORMATION: Supporting documents, which explain in detail the information that the EPA will be collecting, are available in the public docket for this ICR. The docket can be viewed online at http://www.regulations.gov, or in person at the EPA Docket Center, WJC West, Room 3334, 1301 Constitution Ave. NW, Washington, DC. The telephone number for the Docket Center is (202) 566-1744. For additional information about EPA's public docket, visit http://www.epa.gov/dockets.

Abstract: Currently, the EPA has an existing OMB-approved ICR that estimates the burden on states for implementation-related activities associated with the 2008 ozone NAAQS for the period February 2018 to April 2021. States with nonattainment areas for the 2008 ozone NAAQS are implementing the NAAQS pursuant to the CAA and implementation regulations issued for that NAAQS. This proposed ICR renewal estimates the burden for states to meet the ongoing planning requirements that apply to their remaining nonattainment areas for the 2008 ozone NAAQS over the period April 2021 to April 2024. In addition, this ICR renewal includes a new burden estimate for state and EPA activities related to implementing the 2015 8-hour ozone standard, promulgated on October 1, 2015. Finally, this ICR renewal estimates a small amount of additional burden to states to meet the anti-backsliding requirements for the revoked 1997 ozone NAAQS.

Form Numbers: None.

Respondents/affected entities: State and local governments.

Respondent's obligation to respond: Mandatory.

Estimated number of respondents: 31.

Frequency of response: Once per triggering event [e.g., an air agency is required to develop and submit a SIP revision when the area is designated nonattainment or reclassified to a higher classification, or if it is in an OTR member state. An air agency is also required to submit a second 10-year maintenance plan for maintenance areas or portions of maintenance areas for the 1997 ozone NAAQS not also designated as nonattainment for the 2008 ozone NAAQS, and for maintenance areas for the 2008 ozone NAAQS].

Total estimated burden: 119,133 hours (per year). Burden is defined at 5 CFR 1320.03(b).

Total estimated cost: $8.4M (per year), includes $0 annualized capital or operation & maintenance costs.

Changes in Estimates: This is an increase of 85,133 in the total estimated respondent burden compared with the ICR currently approved by OMB. This increase is due to the activities expected to occur during this renewal period, which are similar but not identical to the SIP planning and submission activities in the previous ICR period. The main factors contributing to the change include: (1) The addition of the new burden associated with the requirements for 2015 ozone NAAQS nonattainment areas and OTR states and 1997 ozone NAAQS maintenance areas, which was not covered by the prior ICR; (2) the reduction in the number of 2008 ozone NAAQS nonattainment areas due to states' relative success in attaining the 2008 NAAQS; and, (3) the increase in burden associated with the particular stage of the 2008 ozone implementation program as areas are reclassified from Serious to Severe-15. In total, the EPA estimates there to be an additional burden of 357,400 hours for the state respondents over the 3-year period compared to the 102,000 hours during the period of the 8-hour ozone NAAQS ICR currently approved by OMB (EPA ICR No. 2247.03). Another minor difference in burden is that the previous ICR did not include the burden estimate for second 10-year maintenance plans required from states for four 1997 ozone maintenance areas and three 2008 ozone maintenance areas.

Courtney Kerwin,
Director, Regulatory Support Division.

[FR Doc. 2021-09014 Filed 4-29-21; 8:45 am]

BILLING CODE 6560-50-P